DEPARTMENT OF HOMELAND SECURITY

Federal Emergency Management Agency

[Docket ID FEMA-2013-0002; Internal Agency Docket No. FEMA-B-1319]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Alaska: Sitka | City and Borough of Sitka (13-10-0358P) | The Honorable Mim McConnell, Mayor, City and Borough of Sitka, 100 Lincoln Street, Sitka, AK 99835 | 100 Lincoln Street, 1st Floor, Sitka, AK 99835 | http://www.starr-team.com/starr/LOMR/Pages/RegionX.aspx | June 26, 2013 | 020006
Illinois:
Boone and Winnebago | City of Loves Park (12-05-6395P) | The Honorable Darryl F. Lindberg, Mayor, City of Loves Park, 100 Heart Boulevard, Loves Park, IL 61111 | Loves Park Development Public Works Department, 100 Heart Boulevard, Loves Park, IL 61111 | http://www.starr-team.com/starr/LOMR/Pages/RegionV.aspx | June 19, 2013 | 170722
Kane | Village of North Aurora (13-05-0140P) | The Honorable Dale Berman, Village President, Village of North Aurora, 25 East State Street, North Aurora, IL 60542 | North Aurora Village Hall, Building and Zoning Division, 25 East State Street, North Aurora, IL 60542 | http://www.starr-team.com/starr/LOMR/Pages/RegionV.aspx | June 26, 2013 | 170329
Iowa:
Hardin | City of Iowa Falls (12-07-3261P) | The Honorable Jerry Welden, Mayor, City of Iowa Falls, 315 Stevens Street, Iowa Falls, IA 50126 | 315 Stevens Street, Iowa Falls, IA 50126 | http://www.starr-team.com/starr/LOMR/Pages/RegionVII.aspx | June 20, 2013 | 190140
Hardin | Unincorporated areas of Hardin County (12-07-3261P) | The Honorable Brian Lauterbach, Chair, Hardin County Board of Supervisors, 1215 Edington Avenue, Suite 1, Eldora, IA 50627 | 1215 Edgington Avenue, Suite 2, Eldora, IA 50627 | http://www.starr-team.com/starr/LOMR/Pages/RegionVII.aspx | June 20, 2013 | 190874
Kansas:
Butler | City of Andover (12-07-3333P) | The Honorable Ben Lawrence, Mayor, City of Andover, 1609 East Central Avenue, Andover, KS 67002 | 909 North Andover Road, Andover, KS 67002 | http://www.starr-team.com/starr/LOMR/Pages/RegionVII.aspx | July 5, 2013 | 200383
McPherson | Unincorporated areas of Mcpherson County (12-07-2666P) | The Honorable Ron Loomis, Chairman, Mcpherson County Commission, 117 North Maple, McPherson, KS 67460 | 117 North Maple, McPherson, KS 67460 | http://www.starr-team.com/starr/LOMR/Pages/RegionVII.aspx | June 24, 2013 | 200214
McPherson | City of Galva (12-07-2666P) | The Honorable H. Wayne Ford, Mayor, City of Galva, 208 South Main, Galva, KS 67443 | 208 South Main, Galva, KS 67443 | http://www.starr-team.com/starr/LOMR/Pages/RegionVII.aspx | June 24, 2013 | 200497
Ohio:
Cuyahoga | City of Lyndhurst (12-05-7754P) | The Honorable Joseph M. Cicero, Jr., Mayor, City of Lyndhurst, 5301 Mayfield Road, Lyndhurst, OH 44124 | 5301 Mayfield Road, Lyndhurst, OH 44124 | http://www.starr-team.com/starr/LOMR/Pages/RegionV.aspx | July 5, 2013 | 390113
Oregon:
Marion | City of Salem (12-10-1472P) | The Honorable Anna M. Peterson, Mayor, City of Salem, 555 Liberty Street Southeast, Room 220, Salem, OR 97301 | 555 Liberty Street Southeast, Room 305, Salem, OR 97301 | http://www.starr-team.com/starr/LOMR/Pages/RegionX.aspx | June 21, 2013 | 410167
Marion | Unincorporated areas of Marion County (12-10-1472P) | The Honorable Janet Carlson, Chair, Marion County Board of Comissioners, 451 Division Street, Northeast, Salem, OR 97301 | Marion County Public Works, Planning and Zoning, 5155 Silverton Road Northeast, Salem, OR 97305 | http://www.starr-team.com/starr/LOMR/Pages/RegionX.aspx | June 21, 2013 | 410154
Wisconsin:
Kenosha | Village of Bristol (12-05-7434P) | The Honorable Mike Farrell, Village President, Village of Bristol, 19801 83rd Street, Bristol, WI 53104 | 19801 83rd Street, Bristol, WI 53104 | http://www.starr-team.com/starr/LOMR/Pages/RegionV.aspx | June 20, 2013 | 550595
Kenosha | Village of Pleasant Prairie (12-05-7434P) | The Honorable John Steinbrink, Village President, Village of Pleasant Prairie, 8640 88th Avenue, Pleasant Prairie, WI 53158 | 9915 39th Avenue, Pleasant Prairie, WI 53158 | http://www.starr-team.com/starr/LOMR/Pages/RegionV.aspx | June 20, 2013 | 550613

(Catalog of Federal Domestic Assistance No. 97.022, “Flood Insurance.”)

Roy E. Wright,
Deputy Associate Administrator for Mitigation, Department of Homeland Security, Federal Emergency Management Agency.

[FR Doc. 2013-11592 Filed 5-15-13; 8:45 am]

BILLING CODE 9110-12-P